DEPARTMENT OF TRANSPORTATION

Federal Aviation Administration

[Summary Notice No. PE-2001-41]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on May 22, 2001.
Donald P. Byrne,
Assistant Chief Counsel for Regulations.

Dispositions of Petitions

Docket No.: FAA-2001-9497.

Petitioner: Moody Aviation.

Section of 14 CFR Affected: 14 CFR 135.251, 135.255, 135.353, and appendixes I and J to part 121.

Description of Relief Sought/Disposition: To permit Moody Aviation to conduct local sight seeing flights at Elizabethton Municipal Airport for one day during the annual Covered Bridge Celebration in June 2001, for compensation or hire, without complying with certain anti-drug and alcohol misuse prevention requirements of part 135.

Grant, 05/09/2001, Exemption No. 7529.

Docket No.: FAA-2001-9579.

Petitioner: Ashland County Airport and Johnston Aviation.

Section of 14 CFR Affected: 14 CFR 135.251, 135.255, 135.353, and appendixes I and J to part 121.

Description of Relief Sought/Disposition: To permit Ashland County Airport and Johnston Aviation to conduct local sightseeing flights at the Ashland County Airport for the annual Open House in July 2001 and the Fall Foliage flights in October 2001 for compensation or hire, without complying with certain anti-drug and alcohol misuse prevention requirements of part 135.

Grant, 05/09/2001, Exemption No. 7528.

Docket No.: FAA-2001-9493.

Petitioner: Brookings Flying Club, Inc.

Section of 14 CFR Affected: 14 CFR 135.251, 135.255, 135.353, and appendixes I and J to part 121

Description of Relief Sought/Disposition: To permit BFC to conduct local sightseeing flights at the Brookings, Oregon, airport for the one-day Airport Day Scholarship Fundraising airlifts in May 2001, for compensation or hire, without complying with certain anti-drug and alcohol misuse prevention requirements of part 135.

Grant, 05/08/2001, Exemption No. 7527.

Docket No.: FAA-2001-9555.

Petitioner: Wings of Denver Flying Club, Aspen Flying Club, Key Lime Flights, and Barnstomers Aero Services.

Section of 14 CFR Affected: 14 CFR 135.251, 135.255, 135.353, and appendixes I and J to part 121.

Description of Relief Sought/Disposition: To permit WDFC, AFC, KLF, ahd BAS to conduct local sightseeing flights at Centennial Airport for Centennial Annual Open House on May 12, 2001, for compensation or hire, without complying with certain anti-drug and alcohol misuse prevention requirements of part 135.

Grant, 05/08/2001, Exemption No. 7526.

Docket No.: FAA-2001-8338.

Petitioner: Tatonduk Outfitters, Limited dba Tatonduk Flying Service dba Air Cargo Express.

Section of 14 CFR Affected: 14 CFR 121.345(c)(2) and 135.143(c)(2).

Description of Relief Sought/Disposition: To permit ACE to operate certain aircraft under part 121 and part 135 without a TSO-C112 (Mode S) transponder installed in the aircraft.

Grant, 05/07/2001, Exemption No. 7403A.

Docket No.: FAA-2001-9160 (previously Docket No. 24187).

Petitioner: Florida Department of Law Enforcement.

Section of 14 CFR Affected: 14 CFR 91.209(a)(1) and (b), and (2).

Description of Relief Sought/Disposition: To permit FDLE to conduct operations in support of drug law enforcement and drug traffic interdiction without complying with the visual flight rules cruising altitude requirements or without lighted aircraft position and anticollision lights while operating between sunset and sunrise.

Grant, 05/04/2001, Exemption No. 3596G.

Docket No.: FAA-2001-9163 (previously Docket No. 27143).

Petitioner: Columbia Helicopters, Inc.

Section of 14 CFR Affected: 14 CFR 135.143(c)(2).

Description of Relief Sought/Disposition: To permit CHI to operate certain aircraft under part 135 without a TSO-C112 (Mode S) transponder installed in the aircraft.

Grant, 05/07/2001, Exemption No. 6905A.

Docket No.: FAA-2001-9593.

Petitioner: TNT Leasing Company, Inc.

Section of 14 CFR Affected: 14 CFR 135.143(c)(2).

Description of Relief Sought/Disposition: To permit TNT to operate certain aircraft under part 135 without a TSO-C112 (Mode S) transponder installed in the aircraft.

Grant, 05/07/2001, Exemption No. 7525.

Docket No.: FAA-2001-9594.

Petitioner: Edwards & Associates, Inc.

Section of 14 CFR Affected: 14 CFR 135.143(c)(2).

Description of Relief Sought/Disposition: To permit Edwards to operate certain aircraft under part 135 without a TSO-C112 (Mode S) transponder installed in the aircraft.

Grant, 05/07/2001, Exemption No. 7524.

Docket No.: FAA-2001-9492.

Petitioner: Arctic Circle Air Service, Inc.

Section of 14 CFR Affected: 14 CFR 135.143(c)(2).

Description of Relief Sought/Disposition: To permit ACAS to operate certain aircraft under part 135 without a TSO-C112 (Mode S) transponder installed in the aircraft.

Grant, 05/07/2001, Exemption No. 7523.

[FR Doc. 01-13442 Filed 5-25-01; 8:45 am]

BILLING CODE 4910-13-M